DEPARTMENT OF COMMERCE

National Oceanic and Atmospheric Administration

[I.D. 032400B]

Submission for OMB Review; Comment Request

The Department of Commerce (DoC) has submitted to the Office of Management and Budget (OMB) for clearance the following proposal for collection of information under the provisions of the Paperwork Reduction Act (44 U.S.C. Chapter 35).

AGENCY: National Oceanic and Atmospheric Administration (NOAA).

ACTION: Groundfish Tagging Program.

Agency Form Number(s): None.

OMB Approval Number: 0648-0276.

Type of Request: Extension of a currently approved collection.

Burden Hours: 346.

Number of Respondents: 1,200.

Average Hours Per Response: 5 minutes.

Needs and Uses: The National Marine Fisheries Service (NMFS) Groundfish Tagging Program provides scientists with information necessary for effective conservation, management, and scientific understanding of the groundfish fishery resources off Alaska. The data collected from the groundfish tagging program provides essential biological and movement used in groundfish stock assessment.

Scientist use tagging information to analyze the distribution of fish, growth, fishing and natural mortality, and direction of fish movement. Also, the results are used in the population assessment models and to develop allocation systems. Tagging groundfish for tracking and recovery is an important tool for managing fishery resources.

Finally, two forms are used with the tagging program: 1) sablefish form, and 2) groundfish form. Fisherman and processors recovering tagged fish are requested to supply—date of catch, location and tag number. The sablefish information is more valuable as part of a well advertised program. The information gathered provides data on the rates of migration between the west coast, British Columbia, and Alaska.

Frequency: On occasion.

Respondent's Obligation: Voluntary.

OMB Desk Officer: David Rostker, (202) 395-3897.

Copies of the above information collection proposal can be obtained by calling or writing Linda Engelmeier, DOC Forms Clearance Officer, (202) 482-3272, Department of Commerce, Room 5027, 14th and Constitution Avenue, NW, Washington, DC 20230 (or via the Internet at LEngelme@doc.gov).

Written comments and recommendations for the proposed information collection should be sent within 30 days of publication of this notice to David Rostker, OMB Desk Officer, Room 10202, New Executive Office Building, 725 17th Street, NW, Washington, DC 20503.

Dated: March 21, 2000.
Linda Engelmeier,
Department Forms Clearance Officer, Office of the Chief Information Officer.

[FR Doc. 00-7921 Filed 3-29-00; 8:45 am]

BILLING CODE 3510-22-F